FEDERAL COMMUNICATIONS COMMISSION

[MB Docket No. 12-230; DA 12-1347]

Media Bureau Seeks Comment on TiVo's Request for Clarification and Waiver of the Commission's Audiovisual Output Requirement

AGENCY: Federal Communications Commission.

ACTION: Notice.

SUMMARY: In this document, the Media Bureau seeks comment on a petition for waiver and clarification of the Commission's rules filed by TiVo Inc. These comments are necessary to help the Media Bureau decide whether to grant TiVo's request. The intended effect of this action is to release an order that either grants or denies TiVo's request.

DATES: Submit comments on or before September 21, 2012. Submit reply comments on or before October 1, 2012.

FOR FURTHER INFORMATION CONTACT: For additional information on this proceeding, contact Brendan Murray, Brendan.Murray@fcc.gov, of the Media Bureau, Policy Division, (202) 418-2120.

SUPPLEMENTARY INFORMATION: TiVo Inc. (“TiVo”) has filed a request pursuant to Sections 1.3, 76.7, and 76.1207 of the Commission's rules for waiver of part of Section 76.640(b)(4)(iii) of the Commission's rules. Section 76.640(b)(4)(iii) requires cable operators to “ensure that the cable-operator-provided high definition set-top boxes, except unidirectional set-top boxes without recording functionality, shall comply with an open industry standard that provides for audiovisual communications including service discovery, video transport, and remote control command pass-through standards for home networking” by December 1, 2012. This rule is designed to ensure that consumers will be able to connect consumer electronics devices that they own to set-top boxes that they lease from their cable operators for whole-home viewing and recording. TiVo also asks the Commission to clarify the meaning of the phrase “open industry standard” in the rule. TiVo seeks a waiver of 76.640(b)(4)(iii) for TiVo boxes that cable operators lease to subscribers. TiVo requests that this waiver last until 12 months after cable operators have deployed at least 100,000 Cisco set-top boxes and 100,000 Motorola set-top boxes that include an output that complies with Section 76.640(b)(4)(iii). TiVo maintains that waiver of “an open standard” implementation for cable operators with respect to TiVo boxes that cable operators lease to subscribers would cause no harm to interested parties and will benefit consumers. We seek comment on TiVo's request. Authority for this action is contained in 47 U.S.C. 154(i), 549, and 47 CFR 0.283, 1.3, and 76.7(b)(1).

This proceeding will be treated as “permit but disclose” for purposes of the Commission's ex parte rules. As a result of the permit-but-disclose status of this proceeding, ex parte presentations will be governed by the procedures set forth in Section 1.1206 of the Commission's rules applicable to non-restricted proceedings.

Comments and oppositions are due September 21, 2012. Petitioner's reply is due October 1, 2012. All filings must be submitted in MB Docket No. 12-230. Pleadings sent via email to the Commission will be considered informal and will not be part of the official record. Interested parties will have access to comments online through the Commission's Electronic Comment Filing System (ECFS), and therefore we waive the requirements of Sections 76.7(b)(1) and 76.7(c)(1) that comments and oppositions be served on interested parties.

Comments may be filed using: (1) (ECFS), (2) the Federal Government's eRulemaking Portal, or (3) by filing paper copies.

Electronic Filers: Comments may be filed electronically using the Internet by accessing the ECFS: http://www.fcc.gov/cgb/ecfs/or the Federal eRulemaking Portal: http://www.regulations.gov. Filers should follow the instructions provided on the Web site for submitting comments.

For ECFS filers, in completing the transmittal screen, filers should include their full name, U.S. Postal service mailing address, and the applicable docket number: MB Docket No. 12-230. Parties may also submit an electronic comment by Internet email. To get filing instructions, filers should send an email to ecfs@fcc.gov, and include the following words in the body of the message: “get form”. A sample form and instructions will be sent in response.

Paper Filers: Parties who choose to file by paper must file an original and four copies of each filing. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8 a.m. to 7 p.m.

Commercial overnight mail (other than U.S. Postal Service Express Mail and Priority Mail) must be sent to 9300 East Hampton Drive, Capitol Heights, MD 20743.

U.S. Postal Service first-class, Express, and Priority mail must be addressed to 445 12th Street SW., Washington DC, 20554.

One copy of each pleading must be sent to Brendan Murray, Media Bureau, Room 4-A737, 445 12th Street SW., Washington, DC 20554 or Brendan.Murray@fcc.gov.

Copies of the Waiver Request and any subsequently filed documents in this matter are also available for inspection in the Commission's Reference Information Center: 445 12th Street SW., Room CY-B402, Washington, DC 20554, (202) 418-0270.

Alternate formats of this Public Notice (computer diskette, large print, audio recording, or Braille) are available to persons with disabilities by contacting the Consumer and Governmental Affairs Bureau at (202) 418-0530 or (202) 418-7365 (TTY).

Federal Communications Commission.
Michelle Carey,
Deputy Chief, Media Bureau.

[FR Doc. 2012-21876 Filed 9-5-12; 8:45 am]

BILLING CODE 6712-01-P